DEPARTMENT OF ENERGY

Federal Energy Regulatory Commission

[Project No. 2149-119]

Public Utility District No. 1 of Douglas County; Notice of Settlement Agreement and Application for Approval of Contract for the Sale of Power for a Period Extending Beyond the Term of the License, and Soliciting Comments

January 5, 2005.

Take notice that on November 23, 2004, Public Utility District No. 1 of Douglas County, Washington (Douglas PUD), the Confederated Tribes of the Colville Reservation (Tribe), and the Wells Power Purchasers (Puget Sound Energy, Inc., Portland General Electric Company, PacificCorp, and Avista Corporation, collectively) filed with the Commission: (1) A request for approval of a settlement agreement between Douglas PUD and the Tribe resolving all claims involving annual charges under Section 10(e) of the Federal Power Act (FPA), 16 U.S.C. 803(e), for use of Indian land for Douglas PUD's Wells Project No. 2149; and (2) an application for approval of a contract for the sale of power from the project extending beyond the term of the project license, which expires on May 31, 2012. The project is located on the Columbia River in Chelan, Douglas, Kittitas, Grant, Yakima, and Benton Counties, Washington.

Under the settlement agreement Douglas PUD and the Tribe agree to a lump-sum payment to the Tribe, in the form of cash and real property and a share in the power output of project in fulfillment of all annual charge obligations to the Tribe for the term of the current license and any new license for the Wells Project issued to Douglas PUD. The settlement agreement by its terms would terminate if Douglas PUD is not granted a new license for the project. Both parties assert that the settlement is fair and serves the public interest by satisfying the purposes of section 10(e) of the FPA without the necessity of time-consuming and costly litigation over annual charge claims.

Section 22 of the FPA, 16 U.S.C. 815, provides that contracts for the sale and delivery of power for periods extending beyond the termination date of a license may be entered into upon the joint approval of the Commission and the appropriate state public service Commission or other similar authority in the state in which the sale or delivery of power is made. Douglas PUD and the Tribe have pursuant to the settlement agreement submitted for Commission approval a power sales contract providing the Tribe a share of the project's output that would extend beyond the term of the current project license. The tribe would acquire 4.5 percent of the output of the project through 2018 and 5.5 percent thereafter for as long as Douglas PUD holds any license for the Wells Project. The power would be bought by the Tribe at cost. The parties assert that approval of the submitted contract is in the public interest because the contract is part of the global settlement of issues addressed by the settlement and because of the special relationship of the Tribe to the Wells Project as result of the geographic proximity of the Tribe's reservation to the project.

Comments on the settlement agreement and the request for approval of the power sales contract or motions to intervene may be filed with the Commission no later than January 19, 2005, and replies to comments no later than January 25, 2005. The Commission's Rules of Practice require all intervenors filing documents with the Commission to serve a copy of that document on each person on the official service list for the project. Further, if an intervenor files comments or documents with the Commission relating to the merits of an issue that may affect the responsibilities of a particular resource agency, they must also serve a copy of the document on that resource agency.

All documents (an original and eight copies) must be filed with: Magalie R. Salas, Secretary, Federal Energy Regulatory Commission, 888 First Street, NE., Washington, DC 20426. Please put the project name “Wells Project No. 2149” on the first page of all documents.

Comments may be filed electronically via the Internet in lieu of paper. The Commission strongly encourages electronic filings. See 18 CFR 385.2001(a)(1)(iii) and the instructions on the Commission's Web site http://www.ferc.gov under the “e-Filing” link.

A copy of the settlement agreement is available for review in the Commission's Public Reference Room or may be viewed on the Commission's Web site http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this project or other pending projects. For assistance, contact FERC Online Support.

Comment Date: January 19, 2005.

Replies to Comments: January 25, 2005.

Magalie R. Salas,
Secretary.

[FR Doc. E5-84 Filed 1-11-05; 8:45 am]

BILLING CODE 6717-01-P